DEPARTMENT OF TRANSPORTATION

Federal Aviation Administration

14 CFR Parts 91, 121, 125, and 135

[Docket No. FAA-2012-0953]

Policy Statement on Occupational Safety and Health Standards for Aircraft Cabin Crewmembers; Extension of Comment Period

AGENCY: Federal Aviation Administration (FAA), DOT.

ACTION: Notice of availability; Extension of comment period.

SUMMARY: This action extends the comment period for a notice of availability that was published in the Federal Register on December 7, 2012. In that document, the FAA announced a proposed policy statement regarding the regulation of some occupational safety and health conditions affecting cabin crewmembers on aircraft by the Occupational Safety and Health Administration. The comment period is scheduled to close on January 7, 2013. Several airline associations have requested that the FAA extend the comment period for an additional 30 days to allow time for their members to evaluate the impacts and implications of the proposed policy and prepare comments.

DATES: The comment period for the Notice of availability published on December 7, 2012, was scheduled to close on January 7, 2013, and is extended until January 22, 2013.

ADDRESSES: You may send comments identified by docket number FAA-2012-0953 using any of the following methods:

• Federal eRulemaking Portal: Go to http://www.regulations.gov and follow the online instructions for sending your comments electronically.

• Mail: Send comments to Docket Operations, M-30; U.S. Department of Transportation (DOT), 1200 New Jersey Avenue SE., Room W12-140, West Building Ground Floor, Washington, DC 20590-0001.

• Hand Delivery or Courier: Take comments to Docket Operations in Room W12-140 of the West Building Ground Floor at 1200 New Jersey Avenue SE., Washington, DC, between 9 a.m. and 5 p.m., Monday through Friday, except Federal holidays.

• Fax: Fax comments to Docket Operations at 202-493-2251.

Privacy: The FAA will post all comments it receives, without change, to http://www.regulations.gov, including any personal information the commenter provides. Using the search function of the docket Web site, anyone can find and read the electronic form of all comments received into any FAA docket, including the name of the individual sending the comment (or signing the comment for an association, business, labor union, etc.). DOT's complete Privacy Act Statement can be found in the Federal Register published on April 11, 2000 (65 FR 19477-19478), as well as at http://DocketsInfo.dot.gov.

Docket: Background documents or comments received may be read at http://www.regulations.gov at any time. Follow the online instructions for accessing the docket or Docket Operations in Room W12-140 of the West Building Ground Floor at 1200 New Jersey Avenue SE., Washington, DC, between 9 a.m. and 5 p.m., Monday through Friday, except Federal holidays.

FOR FURTHER INFORMATION CONTACT: Gene Kirkendall, Part 121 Air Carrier Operations Branch (AFS-200), Flight Standards Service, Federal Aviation Administration, 800 Independence Avenue SW., Washington, DC 20591, telephone (202) 267-8166; email Gene.Kirkendall@faa.gov.

SUPPLEMENTARY INFORMATION: See the “Additional Information” section for information on how to comment on this proposal and how the FAA will handle comments received.

Background

On November 29, 2012, the FAA issued a Notice entitled “Policy Statement on Occupational Safety and Health Standards for Aircraft Cabin Crewmembers” that published in the Federal Register on December 7, 2012 (77 FR 72998). Comments to that document were to be received on or before January 7, 2013.

By letter dated December 7, 2012, the Regional Airline Association (RAA), on behalf of its member airlines, requested that the FAA extend the comment period for a minimum of 30 days. The petitioner stated that the additional time is necessary so that their members can assess the extent of the proposed changes, as well as develop questions and comments.

By letter dated December 10, 2012, Airlines for America (A4A), the RAA, and the National Air Carrier Association (NACA) also requested an extension of the comment period, as the 30-day comment period over the holiday season will make it extremely difficult for their respective members to evaluate the impacts and implications of the proposed policy and provide meaningful input to the FAA.

While the FAA concurs with the petitioners' requests for an extension of the comment period, it does not support a 30-day extension. The FAA finds that providing additional time until January 22, 2013 is sufficient for these petitioners to analyze the proposed policy statement and provide meaningful comment.

Absent unusual circumstances, the FAA does not anticipate any further extension of the comment period for this notice.

Extension of Comment Period

In accordance with § 11.47(c) of title 14, Code of Federal Regulations, the FAA has reviewed the petitions made by A4A, RAA, and NACA for extension of the comment period. These petitioners have shown a substantive interest in the proposed policy statement and good cause for the extension. The FAA has determined that extension of the comment period is consistent with the public interest, and that good cause exists for taking this action.

Accordingly, the comment period is extended until January 22, 2013.

Additional Information

A. Comments Invited

The FAA invites interested persons to participate by submitting written comments, data, or views on the policy statement. The most helpful comments reference a specific portion of the policy statement, explain the reason for any recommended change, and include supporting data. To ensure the docket does not contain duplicate comments, commenters should send only one copy of written comments, or if comments are filed electronically, commenters should submit only one time.

The FAA will file in the docket all comments it receives, as well as a report summarizing each substantive public contact with FAA personnel concerning this notice. The FAA will consider all comments it receives on or before the closing date for comments. The FAA will consider comments filed after the comment period has closed if it is possible to do so without incurring expense or delay. The agency may change this proposal in light of the comments it receives.

B. Availability of Notice

An electronic copy of the notice may be obtained from the Internet by—

1. Searching the Federal eRulemaking Portal (http://www.regulations.gov); or

2. Accessing the Government Printing Office's Web page at http://www.gpoaccess.gov/fr/index.html.

Copies may also be obtained by sending a request to the Federal Aviation Administration, Office of Rulemaking, ARM-1, 800 Independence Avenue SW., Washington, DC 20591, or by calling (202) 267-9680. Commenters must identify the docket of this notice.

All documents the FAA considered in developing this proposed policy statement, may be accessed from the Internet through the Federal eRulemaking Portal referenced in item (1) above.

Issued in Washington, DC, December 14, 2012.
John M. Allen,
Director, Flight Standards Service.

[FR Doc. 2012-30701 Filed 12-20-12; 8:45 am]

BILLING CODE 4910-13-P